NATIONAL CAPITAL PLANNING COMMISSION

Notice of Final Adoption and Effective Date for Submission Guidelines Equity Updates

AGENCY: National Capital Planning Commission.

ACTION: Notice of final adoption and effective date.

SUMMARY: The National Capital Planning Commission (NCPC) adopted the Submission Guidelines Equity Updates on June 6, 2024. Federal and non-Federal agency applicants whose development proposals and plans are subject to statutory mandated Commission plan and project review must submit their proposals to the Commission following a process laid out in the Submission Guidelines. The updates to the Submission Guidelines support the updates to the Introduction Chapter of the Comprehensive Plan for the National Capital: Federal Elements. The Submission Guidelines are available online at: https://www.ncpc.gov/initiatives/intro/.

DATES: The revised Submission Guidelines will become effective August 12, 2024.

FOR FURTHER INFORMATION CONTACT: Laura Shipman at (202) 482-7251 or info@ncpc.gov.

(Authority: 40 U.S.C. 8721(e)(2))

Dated: June 6, 2024.
Angela Dupont,
Senior Urban Planner, Policy and Research Division.

[FR Doc. 2024-12782 Filed 6-11-24; 8:45 am]

BILLING CODE 7502-02-P